DEPARTMENT OF ENERGY

Western Area Power Administration

Notice of Availability of Request for Interest

AGENCY: Western Area Power Administration, Department of Energy.

ACTION: Notice of Availability of Request for Interest.

SUMMARY: The Western Area Power Administration (Western), a power marketing administration within the U.S. Department of Energy, announces the availability of a Request for Interest (RFI). Western is seeking interest from any entity or entities interested in identifying a proposed transmission project, primarily in Western's service area, and/or desiring to participate with Western and possibly others by constructing, financing, owning, operating or maintaining transmission facilities or acquiring transmission rights or entering into long-term transmission service agreements on that project.

DATES: To be assured consideration, all Statements of Interest should be received by Western April 3, 2009.

FOR FURTHER INFORMATION CONTACT: For further information or to obtain a copy of this RFI, please contact Transmission Infrastructure Program, Western Area Power Administration, P.O. Box 281213, Lakewood, CO 80228-8213, e-mail txrfi@wapa.gov. The RFI is also available on Western's Web site at http://www.wapa.gov.

SUPPLEMENTARY INFORMATION: Western markets and transmits wholesale hydroelectric power, generated at Federal dams across the western United States. This power is sold to customers in accordance with Federal Law. Western's transmission system was developed to deliver the Federal hydropower to those customers. Western owns and operates an integrated 17,000 circuit mile, high-voltage transmission system across 15 western states and a 1.3 million square-mile service area. Western's service area encompasses all of the following states: Arizona, California, Colorado, Nebraska, Nevada, New Mexico, North Dakota, South Dakota, Utah, and Wyoming: as well as parts of Iowa, Kansas, Montana, Minnesota, and Texas. Today, Western makes capacity on its transmission system, excess to that needed to serve its preference customers, available through the policies and procedures outlined in its Open Access Transmission Tariff.

This RFI is being issued under authority granted to Western in the American Recovery and Reinvestment Act of 2009 (Recovery Act). Section 402 of the Recovery Act gives Western authority to construct, finance, facilitate, plan, operate, maintain or study construction of new or upgraded electric power transmission lines and related facilities with at least one terminus within the area served by Western and for delivering or facilitating the delivery of power generated by renewable energy resources constructed or reasonably expected to be constructed. The law provides borrowing authority to facilitate Western's participation, and further specifies that Western, in the course of selecting potential projects to be funded under this section, shall seek requests for interest from entities interested in identifying potential projects. This FRN fulfills that requirement.

Environmental Compliance

In compliance with the National Environmental Policy Act of 1969 (NEPA) (42 U.S.C. 4321, et seq.), the Council on Environmental Quality Regulations for implementing NEPA (40 CFR parts 1500-1508) and the DOE NEPA Implementing Procedures and Guidelines (10 CFR part 1021), Western has determined that this action is categorically excluded from further NEPA analysis. Future actions under this authority will undergo appropriate NEPA analysis.

Dated: February 20, 2009.
Timothy J. Meeks,
Administrator.

[FR Doc. E9-4610 Filed 3-3-09; 8:45 am]

BILLING CODE 6450-01-P